SMALL BUSINESS ADMINISTRATION

Revocation of License of Small Business Investment Company

Pursuant to the authority granted to the United States Small Business Administration by the Wind-Up Order of the United States District Court of the Eastern District of New York, dated July 15, 2009, the United States Small Business Administration hereby revokes the license of Sterling/Carl Marks Capital, Inc., a New York corporation, to function as a small business investment company under the Small Business Investment Company License No. 02020517 issued to Sterling/Carl Marks Capital, Inc., on October 3, 1988 and said license is hereby declared null and void as of July 15, 2009.

Dated: March 4, 2011.
Sean J. Greene,
Associate Administrator for Investment, United States Small Business Administration.

[FR Doc. 2011-6475 Filed 3-18-11; 8:45 am]

BILLING CODE 8025-01-P